FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 232-010786-010.

Title: Contship Med/Gulf Line Ltd. and Italia di Navigazione SPA Space Charter and Sailing Agreement.

Parties: Contship Med/Gulf Line Ltd. and Italia di Navigazione S.p.A.

Synopsis: The proposed amendment reflects a change in the structure of the relationship of the parties. Upon the amendment's effectiveness, the parties will no longer charter space to one another, rather Contship will charter space to Italia and the maximum number of vessels which may be operated under the Agreement will increase from three to six. The amendment also deletes France, Portugal, and the Balearic and Canary Islands from the Agreement's foreign geographic scope while expanding its U.S. scope to include all U.S. Atlantic ports south of and including Charleston, SC.

Agreement No.: 202-011576-004.

Title: South America Independent Lines Association.

Parties: Interocean Lines, Inc. and Trinity Shipping Line, S.A.

Synopsis: The proposed modification expands the geographic scope of the agreement to include Colombia.

Agreement No.: 217-011689.

Title: Zim/CSCL Slot Charter Agreement.

Parties: Zim Israel Navigation Company Ltd. and China Shipping Container Lines Co. Ltd.

Synopsis: Under the proposed agreement, the parties agree to charter space to each other in the trade between U.S. Pacific Coast ports and ports in the Peoples' Republic of China (including Hong Kong), South Korea, and Japan. The agreement will have a term of three years.

Agreement No.: 232-011690.

Title: COSCO/KL/YMUK Asia/U.S. East and Gulf Coast Vessel Sharing Agreement.

Parties: COSCO Container Lines, Kawasaki Kisen Kaisha, Ltd. and YangMing (U.K.) Ltd.

Synopsis: Under the proposed agreement, the parties agree to coordinate vessel and terminal operations and cross-charter space in their services between U.S. East and Gulf ports and ports in the Peoples' Republic of China and Japan.

Agreement No.: 232-011691.

Title: COSCO/KL/YMUK Mediterranean/U.S. East and Gulf Coast Vessel Sharing Agreement.

Parties: COSCO Container Lines, Kawasaki Kisen Kaisha, Ltd. and Yangming (U.K.) Ltd.

Synopsis: Under the proposed agreement, the parties agree to coordinate vessel and terminal operations and cross-charter space in their services between U.S. East and Gulf ports and ports on the Mediterranean within the Gibraltar/Port Said range.

Agreement No.: 203-011692.

Title: SCI/Contship and CMA CGM Space Charter and Sailing Agreement.

Parties: The Shipping Corporation of India, Ltd., Contship Containerlines Limited and CMA CGM S.A.

Synopsis: The proposed Agreement permits the parties to share space, exchange slots, discuss and agree upon rates on a voluntary basis, adopt voluntary guidelines relating to their respective individual service contracts, and engage in other limited cooperative activities in the trades between the U.S. Atlantic Coast and India, Sri Lanka, South East Asia (Bangladesh to Philippines range), Portugal, ports on the Mediterranean and Red Sea, and in the United Arab Emirates.

Dated: February 18, 2000.
By Order of the Federal Maritime Commission.
Bryant L. VanBrakle,
Secretary.

[FR Doc. 00-4362 Filed 2-23-00; 8:45 am]

BILLING CODE 6730-01-P